DEPARTMENT OF THE INTERIOR

Fish and Wildlife Service

[Docket No. FWS-HQ-NWRS-2025-0308; FXRS12610900000-256-FF09R20000]

National Wildlife Refuge System; Muleshoe National Wildlife Refuge Land Protection Plan

AGENCY: Fish and Wildlife Service, Interior.

ACTION: Notice.

SUMMARY: We, the U.S. Fish and Wildlife Service (Service), withdraw the final Land Protection Plan (LPP) for the Muleshoe National Wildlife Refuge (NWR) approved on June 15, 2023. Hereafter, the Service will take no actions to acquire lands within the acquisition boundary created by the now withdrawn Muleshoe NWR LPP. The Service has determined that withdrawing the proposal is justified to support President Trump's Executive Order (E.O.) 14154 of January 20, 2025, “Unleashing American Energy.” The withdrawal of the LPP will ensure America's lands continue to support energy development, agriculture production, and our local economies.

DATES: The final Muleshoe National Wildlife Refuge Land Protection Plan that was signed on June 15, 2023, is withdrawn on July 31, 2025.

FOR FURTHER INFORMATION CONTACT: Julie Henning (703) 358-3584, julie_henning@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The Service's land protection planning policy (602 FW 2) outlines the land protection planning process, which we undertake when considering expanding an existing refuge or establishing a new refuge. This process starts with the development of a land protection strategy (LPS) that identifies the area's long-term management, biological, and ecological needs. If the strategy is approved by the Service's Director, we develop a land protection plan (LPP). The LPP identifies the acquisition boundary, which is an administrative process to identify the geographic extent and where landowners may be eligible to voluntarily sell their land to the Service. The Muleshoe National Wildlife Refuge (NWR) began the land protection planning process in March 2022 by soliciting input through a mailed pamphlet to local stakeholders, a news release to the local media, and announcements on the Service's website. In January 2023, the Service announced a 30-day public comment period on the draft LPP. The final plan was approved in June 2023 by the Service Director.

Reasons for Withdrawal of the Proposal

The Muleshoe NWR LPP contemplated a huge land acquisition program potentially adding up to 700,000 acres of lands and interests in land to the existing Muleshoe NWR, within a vast 7-million-acre landscape in western Texas and eastern New Mexico. This LPP was developed in accordance with E.O.14008, “Tackling the Climate Crisis at Home and Abroad,” and as part of the America the Beautiful initiative. On January 20, 2025, President Trump signed E.O. 14154, “Unleashing American Energy,” which specifically repealed E.O. 14008, upon which in part the Muleshoe NWR LPP was based. To implement provisions of President Trump's E.O. 14154, the Secretary of the Interior subsequently issued Secretary's Order (S.O.) 3418 of February 3, 2025, which among other things directs the Assistant Secretaries to take all necessary steps to ensure any actions taken to implement the revoked E.O.s (including 14008) be terminated. By withdrawing the LPP, this action supports the Trump Administration's priorities.

For the reasons provided above, we are withdrawing the Muleshoe NWR LPP that was approved on June 15, 2023. The Service will take no actions to acquire lands within the acquisition boundary created by the now withdrawn Muleshoe NWR LPP.

Authority

The authority for this action is the National Wildlife Refuge System Administration Act of 1966 (16 U.S.C. 668dd-668ee), as amended by the National Wildlife Refuge System Improvement Act of 1997 (Pub. L. 105-57).

Justin J. Shirley,
Principal Deputy Director, U.S. Fish and Wildlife Service.

[FR Doc. 2025-14493 Filed 7-30-25; 8:45 am]

BILLING CODE 4333-15-P